DEPARTMENT OF LABOR

Office of the Secretary

Agency Information Collection Activities; Submission for OMB Review; Comment Request; Examinations and Testing of Electrical Equipment, Including Examination, Testing, and Maintenance of High Voltage Longwalls

ACTION: Notice of availability; request for comments.

SUMMARY: The Department of Labor (DOL) is submitting this Mining Safety and Health Administration (MSHA)-sponsored information collection request (ICR) to the Office of Management and Budget (OMB) for review and approval in accordance with the Paperwork Reduction Act of 1995 (PRA). Public comments on the ICR are invited.

DATES: The OMB will consider all written comments that agency receives on or before December 7, 2020.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Anthony May by telephone at 202-693-4129 (this is not a toll-free number) or by email at DOL_PRA_PUBLIC@dol.gov.

SUPPLEMENTARY INFORMATION: Section 103(h) of the Federal Mine Safety and Health Act of 1977 (Mine Act), 30 U.S.C. 813(h), authorizes MSHA to collect information necessary to carry out its duty in protecting the safety and health of miners. Further, section 101(a) of the Mine Act, 30 U.S.C. 811, authorizes the Secretary of Labor (Secretary) to develop, promulgate, and revise as may be appropriate, improved mandatory health or safety standards for the protection of life and prevention of injuries in coal or other mines. The Mine Act and 30 CFR parts 75 and 77, mandatory safety standards for coal mines, make this collection of information necessary. Inadequate maintenance of electric equipment is a major cause of serious electrical accidents in the coal mining industry. It is imperative that mine operators adopt and follow an effective maintenance program to ensure that electric equipment is maintained in a safe operating condition to prevent electrocutions, mine fires, and mine explosions. MSHA regulations require the mine operator to establish an electrical maintenance program by specifying minimum requirements for the examination, testing, and maintenance of electric equipment. The regulations also contain recordkeeping requirements that help operators in implementing an effective maintenance program. (a) Examinations of Electric Equipment (1) Section 75.512 requires that all electric equipment be frequently examined, tested, and maintained by a qualified person to assure safe operating conditions and that a record of such examinations be kept. Section 75.512-2 specifies that required examinations and tests be made at least weekly. (2) Section 75.703-3(d)(11) requires that all grounding diodes be tested, examined, and maintained as electric equipment and records of these activities be kept in accordance with the provisions of § 75.512. (3) Section 77.502 requires that electric equipment be frequently examined, tested, and maintained by a qualified person to ensure safe operating conditions and that a record of such examinations be kept. Section 77.502-2 requires these examinations and tests at least monthly. (b) Examinations of High-Voltage Circuit Breakers (1) Section 75.800 requires that circuit breakers protecting high-voltage circuits, which enter the underground area of a coal mine, be properly tested and maintained as prescribed by the Secretary. Section 75.800-3 requires that such circuit breakers be tested and examined at least once each month. Section 75.800-4 requires that a record of the examinations and tests be made. (2) Section 75.820 requires persons to lock-out and tag disconnecting devices when working on circuits and equipment associated with high-voltage longwalls. (3) Section 75.821(a) requires testing and examination of each unit of high-voltage longwall equipment and circuits to determine that electrical protection, equipment grounding, permissibility, cable insulation, and control devices are being properly maintained to prevent fire, electrical shock, ignition, or operational hazards. These tests and examinations, including the activation of the ground-fault test circuit, are required once every seven days. Section 75.821(b) requires that each ground-wire monitor and associated circuits be examined and tested at least once every 30 days. Section 75.821(d) requires that, at the completion of examinations and tests, the person making the examinations and tests must certify that they have been conducted. In addition, a record must be made of any unsafe condition found and any corrective action taken. These certifications and records must be kept at least 1 year. (4) Section 77.800 requires that circuit breakers protecting high-voltage portable or mobile equipment be properly tested and maintained. Section 77.800-1 requires that such circuit breakers be tested and examined at least once each month. Section 77.800-2 requires a record of each test, examination, repair, or adjustment of all circuit breakers protecting high-voltage circuits. (c) Examinations of Low- and Medium Voltage Circuits (1) Section 75.900 requires that circuit breakers protecting low- and medium voltage power circuits serving three-phase alternating-current equipment be properly tested and maintained. Section 75.900-3 requires that such circuit breakers be tested and examined at least once each month. Section 75.900-4 requires that a record of the required examinations and tests be made. (2) Section 77.900 requires that circuit breakers protecting low- and medium voltage circuits which supply power to portable or mobile three-phase alternating-current equipment be properly tested and maintained. Section 77.900-1 requires that such circuit breakers be tested and examined at least once each month. Section 77.900-2 requires that a record of the examinations and tests be made. (d) Tests and Calibrations of Automatic Circuit Interrupting Devices Section 75.1001-1(b) requires that automatic circuit interrupting devices that protect trolley wires and trolley feeder wires be tested and calibrated at intervals not to exceed 6 months. Section 75.1001-1(c) requires that a record of the tests and calibrations be kept. For additional substantive information about this ICR, see the related notice published in the Federal Register on July 23, 2020 (85 FR 44546).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-MSHA.

Title of Collection: Examinations and Testing of Electrical Equipment, Including Examination, Testing, and Maintenance of High Voltage Longwalls.

OMB Control Number: 1219-0116.

Affected Public: Businesses or other for-profits institutions.

Total Estimated Number of Respondents: 674.

Total Estimated Number of Responses: 291,074.

Total Estimated Annual Time Burden: 55,339 hours.

Total Estimated Annual Other Costs Burden: $0.

(Authority: 44 U.S.C. 3507(a)(1)(D))

Dated: November 2, 2020.
Anthony May,
Management and Program Analyst.

[FR Doc. 2020-24655 Filed 11-5-20; 8:45 am]

BILLING CODE 4510-43-P